DEPARTMENT OF ENERGY

Federal Energy Regulatory Commission

Combined Notice of Filings #1

Take notice that the Commission received the following electric rate filings:

Docket Numbers: ER16-29-001.

Applicants: Greenidge Generation LLC.

Description: Triennial Market Power Analysis for Northeast Region of Greenidge Generation LLC.

Filed Date: 4/9/21.

Accession Number: 20210409-5230.

Comments Due: 5 p.m. ET 6/8/21.

Docket Numbers: ER16-2449-003; ER21-628-003.

Applicants: Boulder Solar II, LLC, Harry Allen Solar Energy LLC.

Description: Notice of Change in Status of Boulder Solar II, LLC, et al.

Filed Date: 4/8/21.

Accession Number: 20210408-5315.

Comments Due: 5 p.m. ET 4/29/21.

Docket Numbers: ER20-1210-003.

Applicants: Hazleton Generation LLC.

Description: Compliance filing: Reactive Service Tariff—Compliance Filing to be effective 4/1/2020.

Filed Date: 4/9/21.

Accession Number: 20210409-5113.

Comments Due: 5 p.m. ET 4/30/21.

Docket Numbers: ER21-632-001.

Applicants: Toms River Merchant Solar, LLC.

Description: Notice of Non-Material Change in Status of Toms River Merchant Solar, LLC.

Filed Date: 4/8/21.

Accession Number: 20210408-5318.

Comments Due: 5 p.m. ET 4/29/21.

Docket Numbers: ER21-1136-001.

Applicants: Union Electric Company.

Description: Tariff Amendment: Co-Tenancy and Shared Facilities Agreement to be effective 1/14/2021.

Filed Date: 4/9/21.

Accession Number: 20210409-5165.

Comments Due: 5 p.m. ET 4/30/21.

Docket Numbers: ER21-1150-001.

Applicants: Midcontinent Independent System Operator, Inc.

Description: Tariff Amendment: 2021-04-09_Amendment to Q1 Clean Up Filing to be effective 6/12/2020.

Filed Date: 4/9/21.

Accession Number: 20210409-5240.

Comments Due: 5 p.m. ET 4/16/21.

Docket Numbers: ER21-1644-000.

Applicants: Rolling Hills Generating, L.L.C.

Description: Request for Limited Waiver, et al. of Rolling Hills Generating, L.L.C.

Filed Date: 4/8/21.

Accession Number: 20210408-5313.

Comments Due: 5 p.m. ET 4/19/21.

Docket Numbers: ER21-1645-000.

Applicants: Buchanan County Solar Project, LLC.

Description: Petition for Limited Waiver, et al. of Buchanan County Solar Project, LLC.

Filed Date: 4/8/21.

Accession Number: 20210408-5316.

Comments Due: 5 p.m. ET 4/19/21.

Docket Numbers: ER21-1646-000.

Applicants: PJM Interconnection, L.L.C.

Description: § 205(d) Rate Filing: Original ISA No. 5999; Queue No. AC2-012 to be effective 3/10/2021.

Filed Date: 4/9/21.

Accession Number: 20210409-5112.

Comments Due: 5 p.m. ET 4/30/21.

Docket Numbers: ER21-1647-000.

Applicants: Central Hudson Gas & Electric Corporation, Consolidated Edison Company of New York, Inc, Orange and Rockland Utilities, Inc., Niagara Mohawk Power Corporation, New York State Electric & Gas Corporation, Rochester Gas and Electric Corporation, New York Independent System Operator, Inc.

Description: § 205(d) Rate Filing: 205 filing on behalf of NYTOs re: TO Funding of Transmission Upgrades to be effective 6/9/2021.

Filed Date: 4/9/21.

Accession Number: 20210409-5191.

Comments Due: 5 p.m. ET 4/30/21.

Docket Numbers: ER21-1648-000.

Applicants: Southern California Edison Company.

Description: § 205(d) Rate Filing: DSA, Bright Canyon Energy Corporation—BCE Los Alamitos 1 SA No. 1140 to be effective 6/9/2021.

Filed Date: 4/9/21.

Accession Number: 20210409-5218.

Comments Due: 5 p.m. ET 4/30/21.

Docket Numbers: ER21-1649-000.

Applicants: Southern California Edison Company.

Description: § 205(d) Rate Filing: DSA, Bright Canyon Energy Corporation—BCE Los Alamitos 2 SA No. 1142 to be effective 6/9/2021.

Filed Date: 4/9/21.

Accession Number: 20210409-5219.

Comments Due: 5 p.m. ET 4/30/21.

Docket Numbers: ER21-1650-000.

Applicants: ISO New England Inc., NSTAR Electric Company.

Description: Compliance filing: NSTAR Electric Company; Order No. 864 Supplmental Compliance Filing to be effective 1/1/2020.

Filed Date: 4/9/21.

Accession Number: 20210409-5250.

Comments Due: 5 p.m. ET 4/30/21.

Docket Numbers: ER21-1651-000.

Applicants: Arizona Public Service Company.

Description: § 205(d) Rate Filing: Service Agreement No. 388—AES E&P Agreement to be effective 3/26/2021.

Filed Date: 4/9/21.

Accession Number: 20210409-5255.

Comments Due: 5 p.m. ET 4/30/21.

Docket Numbers: ER21-1652-000.

Applicants: Public Service Company of Colorado.

Description: § 205(d) Rate Filing: 2021-04-09 OATT-Transmn Svc Study Filing to be effective 6/8/2021.

Filed Date: 4/9/21.

Accession Number: 20210409-5259.

Comments Due: 5 p.m. ET 4/30/21.

Docket Numbers: ER21-1653-000.

Applicants: Deer Creek Solar I LLC.

Description: Baseline eTariff Filing: Deer Creek Solar I LLC MBR Tariff to be effective 4/10/2021.

Filed Date: 4/9/21.

Accession Number: 20210409-5283.

Comments Due: 5 p.m. ET 4/30/21.

Docket Numbers: ER21-1654-000.

Applicants: ISO New England Inc., The Connecticut Light and Power Company.

Description: Compliance filing: Connecticut Light and Power; Order No. 864 Supplemental Compliance Filing to be effective 1/1/2020.

Filed Date: 4/9/21.

Accession Number: 20210409-5291.

Comments Due: 5 p.m. ET 4/30/21.

Docket Numbers: ER21-1656-000.

Applicants: PJM Interconnection, L.L.C.

Description: Tariff Cancellation: Notice of Cancellation of ISA, SA No. 4856; Queue No. AA2-121/AB2-104/AC1-003 to be effective 5/25/2021.

Filed Date: 4/9/21.

Accession Number: 20210409-5313.

Comments Due: 5 p.m. ET 4/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated April 9, 2021.
Nathaniel J. Davis, Sr.,
Deputy Secretary.

[FR Doc. 2021-07835 Filed 4-15-21; 8:45 am]

BILLING CODE 6717-01-P